DEPARTMENT OF COMMERCE

International Trade Administration

[A-475-834]

Certain Carbon and Alloy Steel Cut-to-Length Plate From Italy: Amended Final Results of Antidumping Duty Administrative Review; 2020-2021

AGENCY: Enforcement and Compliance, International Trade Administration, Department of Commerce.

SUMMARY: The U.S. Department of Commerce (Commerce) is amending the final results of the administrative review of the antidumping duty order on certain carbon and alloy steel cut-to-length plate from Italy to correct a ministerial error. The period of review (POR) is May 1, 2020, through April 30, 2021.

DATES: Applicable January 26, 2023.

FOR FURTHER INFORMATION CONTACT: Alice Maldonado or David Crespo, AD/CVD Operations, Office II, Enforcement and Compliance, International Trade Administration, U.S. Department of Commerce, 1401 Constitution Avenue NW, Washington, DC 20230; telephone: (202) 482-4682 or (202) 482-3693, respectively.

SUPPLEMENTARY INFORMATION:

Background

On December 8, 2022, Commerce published the final results of this administrative review.¹ On December 16, 2022, Commerce disclosed its calculations to interested parties and provided interested parties with the opportunity to submit ministerial error comments.² On December 20, 2022, NLMK Verona SpA (NVR), a mandatory respondent in this administrative review, submitted an allegation of a ministerial error in the Final Results.³ No other party made an allegation of a ministerial error or provided rebuttal comments.

¹ See Certain Carbon and Alloy Steel Cut-To-Length Plate from Italy: Final Results of Antidumping Duty Administrative Review and Final Determination of No Shipments; 2020-2021, 87 FR 75219 (December 8, 2022) (Final Results).

² See Memorandum, “2020-2021 Antidumping Duty Administrative Review of Certain Carbon and Alloy Steel Cut-To-Length Plate from Italy,” dated December 16, 2022.

³ See NVR's Letter, “Ministerial Error Comments,” dated December 20, 2022.

Legal Framework

Section 751(h) of the Tariff Act of 1930, as amended, (the Act) defines a “ministerial error” as including “errors in addition, subtraction, or other arithmetic function, clerical errors resulting from inaccurate copying, duplication, or the like, and any other unintentional error which the administering authority considers ministerial.” With respect to final results of administrative reviews, 19 CFR 351.224(e) provides that Commerce “will analyze any comments received and, if appropriate, correct any ministerial error by amending . . . the final results of review . . . .”

Ministerial Error

We agree with NVR that Commerce made a ministerial error in the Final Results within the meaning of section 751(h) of the Act and 19 CFR 351.224(f) by inadvertently failing to update the program to use the revised comparison market calculations, which resulted in an incorrect margin calculation for NVR.⁴

⁴ See Memorandum, “Ministerial Error Allegation,” dated concurrently with this notice.

Accordingly, pursuant to 19 CFR 351.224(e), Commerce is amending the Final Results to reflect the correction of this ministerial error in the calculation of the weighted-average dumping margin assigned to NVR in the Final Results, which changes from 1.47 percent to 0.90 percent.⁵ Furthermore, we are amending the rate for the companies not selected for individual examination in this review based on the weighted average dumping margins calculated for the mandatory respondents, which changes from 4.43 percent to 3.95 percent.⁶

⁵ Id.

⁶ See Memorandum, “Amended Calculation of the Cash Deposit Rate for Non-Examined Companies,” dated concurrently with this notice (Amended Non-Examined Company Calculation Memorandum).

Amended Final Results

As a result of correcting the ministerial error, Commerce determines that the following weighted-average dumping margins exist for the period May 1, 2020, through April 30, 2021:

Producer/exporter | Weighted- average dumping margin (percent)
NLMK Verona SpA | 0.90
Arvedi Tubi Acciaio | 3.95
C.M.T. Construzioni Meccaniche di Taglione Emilio & C. S.a.s | 3.95
O.ME.P SpA | 3.95
Ofar SpA | 3.95
Officine Meccaniche M.A.M. s.r.l | 3.95
Sesa SpA | 3.95
SZ Acroni D.o.o | 3.95
Tim-Cop Doo Temerin | 3.95

Disclosure

Commerce intends to disclose the calculations performed in connection with these amended final results of review to parties in this review within five days after public announcement of the amended final results or, if there is no public announcement, within five days of the date of publication of this notice in the Federal Register, in accordance with 19 CFR 351.224(b).

Assessment Rates

Pursuant to section 751(a)(2)(C) of the Act and 19 CFR 351.212(b)(1), Commerce shall determine, and CBP shall assess, antidumping duties on all appropriate entries of subject merchandise in accordance with the amended final results of this review.

Pursuant to 19 CFR 351.212(b)(1), where the respondent reported the entered value of its U.S. sales, we calculated importer-specific ad valorem duty assessment rates based on the ratio of the total amount of dumping calculated for the examined sales to the total entered value of the sales for which entered value was reported. Where the respondent did not report entered value, we calculated the entered value in order to calculate the assessment rate. Where either the respondent's weighted-average dumping margin is zero or de minimis within the meaning of 19 CFR 351.106(c)(1), or an importer-specific rate is zero or de minimis, we will instruct CBP to liquidate the appropriate entries without regard to antidumping duties.

For the companies that were not selected for individual examination, we will assign an assessment rate based on the cash deposit rates calculated for the mandatory respondents in this review, i.e., NVR and Officine Tecnosider s.r.l (OTS), excluding any rates that are zero, de minimis, or determined entirely based on adverse facts available.⁷ For NVR and the non-selected respondents listed above, the amended final results of this review shall be the basis for the assessment of antidumping duties on entries of merchandise covered by the final results of this review and for future deposits of estimated duties, where applicable.⁸

⁷ Id. The cash deposit rate for OTS remains unchanged from the Final Results.

⁸ See section 751(a)(2)(C) of the Act.

Commerce's “automatic assessment” will apply to entries of subject merchandise during the POR produced by companies included in these amended final results of review for which the reviewed companies did not know that the merchandise they sold to the intermediary (e.g., a reseller, trading company, or exporter) was destined for the United States. In such instances, we will instruct CBP to liquidate unreviewed entries at the all-others rate if there is no rate for the intermediate company(ies) involved in the transaction.

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following cash deposit requirements will be effective for all shipments of the subject merchandise entered, or withdrawn from warehouse, for consumption on or after the publication date of the amended final results of this administrative review, as provided by section 751(a)(2)(C) of the Act: (1) the cash deposit rate for NVR and the non-selected respondents listed above will be that established in the amended final results of this review, except if the rate is less than 0.50 percent and, therefore, de minimis within the meaning of 19 CFR 351.106(c)(1), in which case the cash deposit rate will be zero; (2) for previously investigated companies not participating in this review, the cash deposit will continue to be the company-specific rate published for the most recently completed segment of this proceeding; (3) if the exporter is not a firm covered in this review, or the original less-than-fair-value (LTFV) investigation, but the manufacturer is, then the cash deposit rate will be the rate established for the most recent segment for the manufacturer of the merchandise; and (4) the cash deposit rate for all other manufacturers or exporters will continue to be 6.08 percent, the all-others rate established in the LTFV investigation.⁹ These cash deposit requirements, when imposed, shall remain in effect until further notice.

⁹ See Certain Carbon and Alloy Steel Cut-To-Length Plate from Austria, Belgium, France, the Federal Republic of Germany, Italy, Japan, the Republic of Korea, and Taiwan: Amended Final Affirmative Antidumping Determinations for France, the Federal Republic of Germany, the Republic of Korea, and Taiwan, and Antidumping Duty Orders, 82 FR 24096, 24098 (May 25, 2017).

Notification to Importers

This notice serves as a final reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Administrative Protective Order

This notice also serves as a reminder to parties subject to administrative protective order (APO) of their responsibility concerning the disposition of proprietary information disclosed under APO in accordance with 19 CFR 351.305(a)(3), which continues to govern business proprietary information in this segment of the proceeding. Timely written notification of return/destruction of APO materials or conversion to judicial protective order is hereby requested. Failure to comply with the regulations and the terms of an APO is a sanctionable violation.

Notification to Interested Parties

This notice is being issued in accordance with sections 751(h) and 777(i)(1) of the Act, and 19 CFR 351.224(e).

Dated: January 19, 2023.
Lisa W. Wang,
Assistant Secretary for Enforcement and Compliance.

[FR Doc. 2023-01562 Filed 1-25-23; 8:45 am]

BILLING CODE 3510-DS-P